DEPARTMENT OF LABOR

Employment and Training Administration

[TA-W-40,525E]

The Boeing Company, Boeing Defense and Space Group, Commercial Airplane Group, Labinal-Corinth, Inc., Corinth, Texas; Amended Certification Regarding Eligibility to Apply for Worker Adjustment Assistance

In accordance with section 223 of the Trade Act of 1974 (19 U.S.C. 2273) the Department of Labor issued Amended Certification Regarding Eligibility to Apply for Worker Adjustment Assistance on July 18, 2002, applicable to workers of The Boeing Company, Commercial Airplane Group, Corinth, Texas. The notice was published in the Federal Register on July 29, 2002 (67 FR 49039-49040).

At the request of Labinal-Corinth, Inc., the Department reviewed the certification for workers of the subject firm. The workers are engaged in the production of large commercial aircraft and the components thereof.

New information shows that Labinal-Corinth, Inc. purchased substantially all of the assets and business of Boeing-Corinth, Inc. on June 6, 2003. Workers separated from employment at the subject firm following the purchase had their wages reported under a separate unemployment insurance (UI) tax account for Labinal-Corinth, Inc.

Accordingly, the Department is amending this certification to properly reflect this matter.

The intent of the Department's certification is to include all workers of The Boeing Company, Boeing Defense and Space Group, Commercial Airplane Group, and Labinal-Corinth, Inc. who were adversely affected by increased imports.

The amended notice applicable to TA-W-40,525E is hereby issued as follows:

All workers of The Boeing Company, Boeing Defense and Space Group, Commercial Airplane Group, and Labinal-Corinth, Inc., Corinth, Texas (TA-W-40,525E) who became totally or partially separated from employment on or after February 25, 2002, through March 18, 2004, are eligible to apply for adjustment assistance under section 223 of the Trade Act of 1974.

Signed at Washington, DC this 15th day of October 2003.
Richard Church,
Certifying Officer, Division of Trade Adjustment Assistance.

[FR Doc. 03-29135 Filed 11-20-03; 8:45 am]

BILLING CODE 4510-30-P